DEPARTMENT OF ENERGY

Federal Energy Regulatory Commission

Combined Notice of Filings #1

Take notice that the Commission received the following electric corporate filings:

Docket Numbers: EC16-11-000.

Applicants: Greeley Energy Facility, LLC.

Description: Second Supplement to October 13, 2015 Application for Authorization Under Section 203 of the Federal Power Act and Request for Expedited Action of Greeley Energy Facility, LLC.

Filed Date: 2/24/16.

Accession Number: 20160224-5077.

Comments Due: 5 p.m. ET 3/7/16.

Docket Numbers: EC16-80-000.

Applicants: 8point3 Energy Partners LP, Solar Star Colorado III, LLC.

Description: Application for Authorization under Section 203 of the Federal Power Act and Request for Expedited Action of 8point3 Energy Partners LP and Solar Star Colorado III, LLC.

Filed Date: 2/25/16.

Accession Number: 20160225-5047.

Comments Due: 5 p.m. ET 3/17/16.

Take notice that the Commission received the following exempt wholesale generator filings:

Docket Numbers: EG16-58-000.

Applicants: Middlesex Energy Center, LLC.

Description: Middlesex Energy Center, LLC submits the Notice of Self-Certification of Exempt Wholesale Generator Status.

Filed Date: 2/24/16.

Accession Number: 20160224-0001.

Comments Due: 5 p.m. ET 3/16/16.

Docket Numbers: EG16-59-000.

Applicants: San Roman Wind I, LLC.

Description: San Roman Wind I, LLC Notice of Self-Certification of Exempt Wholesale Generator Status.

Filed Date: 2/25/16.

Accession Number: 20160225-5164.

Comments Due: 5 p.m. ET 3/17/16.

Take notice that the Commission received the following electric rate filings:

Docket Numbers: ER16-996-000.

Applicants: Pacific Gas and Electric Company.

Description: Notice of Termination of Pacific Gas and Electric Company for Transmission Service for San Luis Unit, Rate Schedule No. 227.

Filed Date: 2/24/16.

Accession Number: 20160224-5028.

Comments Due: 5 p.m. ET 3/16/16.

Docket Numbers: ER16-1000-000.

Applicants: Madison Gas and Electric Company.

Description: Compliance filing: Certificate of Concurrence to be effective 2/22/2016.

Filed Date: 2/24/16.

Accession Number: 20160224-5139.

Comments Due: 5 p.m. ET 3/16/16.

Docket Numbers: ER16-1001-000.

Applicants: Commonwealth Edison Company, PJM Interconnection, L.L.C.

Description: § 205(d) Rate Filing: ComEd submits Transmission Upgrade Agreement No. 4417 to be effective 2/25/2016.

Filed Date: 2/25/16.

Accession Number: 20160225-5061.

Comments Due: 5 p.m. ET 3/17/16.

Docket Numbers: ER16-1002-000.

Applicants: Midcontinent Independent System Operator, Inc.

Description: § 205(d) Rate Filing: 2016-02-25_SA 2791 Notice of Termination Ameren-FutureGen GIA (J239) to be effective 4/5/2016.

Filed Date: 2/25/16.

Accession Number: 20160225-5114.

Comments Due: 5 p.m. ET 3/17/16.

Docket Numbers: ER16-1003-000.

Applicants: Midcontinent Independent System Operator, Inc., Ameren Illinois Company.

Description: § 205(d) Rate Filing: 2016-02-25_SA 2901 Ameren Illinois-ComEd Kewanee CA to be effective 2/4/2016.

Filed Date: 2/25/16.

Accession Number: 20160225-5144.

Comments Due: 5 p.m. ET 3/17/16.

Docket Numbers: ER16-1004-000.

Applicants: Roundtop Energy LLC.

Description: Compliance filing: Roundtop Energys Reactive Power Filing to be effective 4/1/2016.

Filed Date: 2/25/16.

Accession Number: 20160225-5177.

Comments Due: 5 p.m. ET 3/17/16.

Docket Numbers: ER16-1005-000.

Applicants: RE Mustang LLC.

Description: § 205(d) Rate Filing: Mustang Shared Facilities Agreement to be effective 4/25/2016.

Filed Date: 2/25/16.

Accession Number: 20160225-5182.

Comments Due: 5 p.m. ET 3/17/16.

Docket Numbers: ER16-1006-000.

Applicants: RE Mustang LLC.

Description: § 205(d) Rate Filing: Mustang LGIA Co Tenancy Agreement to be effective 4/25/2016.

Filed Date: 2/25/16.

Accession Number: 20160225-5183.

Comments Due: 5 p.m. ET 3/17/16.

Docket Numbers: ER16-1007-000.

Applicants: Amazon Energy, LLC.

Description: § 205(d) Rate Filing: Amazon Energy, LLC Notice of Succession to be effective 2/26/2016.

Filed Date: 2/25/16.

Accession Number: 20160225-5185.

Comments Due: 5 p.m. ET 3/17/16.

Take notice that the Commission received the following public utility holding company filings:

Docket Numbers: PH16-5-000.

Applicants: Gaz Metro inc.

Description: Gaz Metro inc. FERC 65-B Waiver Notification.

Filed Date: 2/24/16.

Accession Number: 20160224-5150.

Comments Due: 5 p.m. ET 3/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2016.
Nathaniel J. Davis, Sr.,
Deputy Secretary.

[FR Doc. 2016-04693 Filed 3-3-16; 8:45 am]

BILLING CODE 6717-01-P